DEPARTMENT OF EDUCATION

Applications for New Awards; College Assistance Migrant Program

AGENCY: Office of Elementary and Secondary Education, Department of Education.

ACTION: Clarification.

SUMMARY: On December 3, 2021, the Department of Education (Department) published in the Federal Register a notice inviting applications (NIA) for the fiscal year (FY) 2022 College Assistance Migrant Program (CAMP), Assistance Listing Number 84.149A. This notice clarifies that the deadline to submit applications for the FY 2022 competition is February 1, 2022.

DATES: Deadline for Transmittal of Applications: February 1, 2022.

FOR FURTHER INFORMATION CONTACT: Millicent Bentley-Memon, U.S. Department of Education, 400 Maryland Avenue SW, Room 3E311, Washington, DC 20202. Telephone: (202) 401-1427. Email: Millicent.Bentley-Memon@ed.gov.

If you use a telecommunications device for the deaf (TDD) or a text telephone (TTY), call the Federal Relay Service (FRS), toll free, at 1-800-877-8339.

SUPPLEMENTARY INFORMATION: On December 3, 2021, we published in the Federal Register a notice inviting applications for CAMP (86 FR 68653) that established the February 1, 2022 deadline to submit new award applications for the CAMP FY 2022 competition. In the initial posting of the Grant Opportunity in Grants.gov, the “Original Closing Date for Applications” was listed as February 3, 2022. This date was posted in error. Consistent with the December 3, 2021 notice, applicants must submit CAMP applications by February 1, 2022. Instructions for submitting an application can be found in the December 3, 2021 notice. The Grant Opportunity in Grants.gov has been updated and corrected.

Program Authority: 20 U.S.C. 1070d-2.

Accessible Format: On request to the program contact person listed under FOR FURTHER INFORMATION CONTACT, individuals with disabilities can obtain this document, the notice inviting applications, and a copy of the application package in an accessible format. The Department will provide the requestor with an accessible format that may include Rich Text Format (RTF), text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Ian Rosenblum,
Deputy Assistant Secretary for Policy and Programs, Office of Elementary and Secondary Education, Acting Assistant Secretary for Elementary and Secondary Education.

[FR Doc. 2022-00788 Filed 1-14-22; 8:45 am]

BILLING CODE 4000-01-P